DEPARTMENT OF VETERANS AFFAIRS

38 CFR Part 3

RIN 2900-AG15

Disease Subject to Presumptive Service Connection; Correction

AGENCY: Department of Veterans Affairs.

ACTION: Correcting amendment.

SUMMARY: This document contains a correction to the regulations of the Department of Veterans Affairs (VA) that governs presumptive service connection for certain diseases from exposure to ionizing radiation during military service. This correction is required in order to amend a cross-reference in the regulation. No substantive change to the content of the regulations is being made by this correcting amendment.

DATES: Effective Date: May 28, 2008.

FOR FURTHER INFORMATION CONTACT: Tracy Wang, Office of Regulation Policy and Management (00REG), Department of Veterans Affairs, 910 Vermont Ave., NW., Washington, DC 20420, (202) 461-4902.

SUPPLEMENTARY INFORMATION: VA published a final rule in the Federal Register on April 27, 1993 (See 58 FR 25563), to implement Section 2 of the Veterans' Radiation Exposure Amendments of 1992, Public Law 102-578, which amended 38 U.S.C. 1112(c) to repeal the requirement that, to be presumed service connected, specified diseases of veterans who participated in a radiation-risk activity to become at least 10 percent disabling within 40 years after the veterans' last exposure to radiation. Accordingly, VA removed 38 CFR 3.309(d)(3) and redesignated § 3.309(d)(4) as the new § 3.309(d)(3). However, VA neglected to amend the reference to the redesignated § 3.309(d)(3) that appears at § 3.309(d)(3)(vii)(B). This document corrects that omission by removing “(d)(4)(vii)(A)” and adding, in its place, “(d)(3)(vii)(A)”.

List of Subjects in 38 CFR Part 3

Administrative practice and procedure, Claims, Disability benefits, Health care, Pensions, Veterans, Vietnam.

Approved: May 20, 2008.
Robert McFetridge,
Assistant to the Secretary for Regulation Policy and Management.

For the reasons set out in the preamble, VA is correcting 38 CFR part 3 as follows.

PART 3—ADJUDICATION

1. The authority citation for part 3, subpart A continues to read as follows:

Authority: 38 U.S.C. 501(a), unless otherwise noted.

§ 3.309 [Corrected]

2. In § 3.309(d)(3)(vii)(B), remove the phrase “paragraph (d)(4)(vii)(A)” and add, in its place, “paragraph (d)(3)(vii)(A)”.

[FR Doc. E8-11725 Filed 5-27-08; 8:45 am]

BILLING CODE 8320-01-P